DEPARTMENT OF HOMELAND SECURITY

Federal Emergency Management Agency

[Docket ID FEMA-2015-0001; Internal Agency Docket No. FEMA-B-1508]

Changes in Flood Hazard Determinations

Correction

In notice document 2015-10535 beginning on page 26074 in the issue of Wednesday, May 6, 2015, make the following correction:

The table appearing on pages 26075-26078 should read as follows:

State and county | Location and case No. | Chief executive officer of community | Community map repository | Online location of letter of map revision | Effective date of modification | Community No.
Alabama:
Madison | City of Huntsville (15-04-0198P) | The Honorable Tommy Battle, Mayor, City of Huntsville, 308 Fountain Circle, Huntsville, AL 35801 | Engineering Department, 308 Fountain Circle, Huntsville, AL 35801 | http://www.msc.fema.gov/lomc | Jul. 6, 2015 | 010153
Madison | Unincorporated areas of Madison County (15-04-0198P) | The Honorable Dale W. Strong, Chairman, Madison County Commission, 100 Northside Square, Huntsville, AL 35801 | Madison County Engineering Building, 266-C Shields Road, Huntsville, AL 35811 | http://www.msc.fema.gov/lomc | Jul. 6, 2015 | 010151
California:
Colusa | City of Williams (14-09-4496P) | The Honorable John J. Troughton, Jr., Mayor, City of Williams, P.O. Box 310, Williams, CA 95987 | City Hall, 810 E Street, Williams, CA 95987 | http://www.msc.fema.gov/lomc | Jul. 2, 2015 | 060024
Colusa | Unincorporated areas of Colusa County (14-09-4438P) | The Honorable Mark D. Marshall, Chairman, Colusa County Board of Supervisors, 547 Market Street, Suite 102, Colusa, CA 95932 | Colusa County Department of Public Works, 1215 Market Street, Colusa, CA 95932 | http://www.msc.fema.gov/lomc | Jul. 2, 2015 | 060022
Colusa | Unincorporated areas of Colusa County (14-09-4496P) | The Honorable Mark D. Marshall, Chairman, Colusa County Board of Supervisors, 547 Market Street, Suite 102, Colusa, CA 95932 | Colusa County Department of Public Works, 1215 Market Street, Colusa, CA 95932 | http://www.msc.fema.gov/lomc | Jul. 2, 2015 | 060022
Riverside | Unincorporated areas of Riverside County (15-09-0813P) | The Honorable Marion Ashley, Chairman, Riverside County Board of Supervisors, 4080 Lemon Street, 5th Floor, Riverside, CA 92501 | Riverside County Flood Control and Water Conservation District, 1995 Market Street, Riverside, CA 92501 | http://www.msc.fema.gov/lomc | Jun. 8, 2015 | 060245
San Diego | Unincorporated areas of San Diego County (14-09-4435P) | The Honorable Dianne Jacob, Chair, San Diego County Board of Supervisors, 1600 Pacific Highway, Room 335, San Diego, CA 92101 | San Diego County Department of Public Works, Flood Control District, 5510 Overland Avenue, Suite 401, San Diego, CA 92123 | http://www.msc.fema.gov/lomc | Jun. 19, 2015 | 060284
Colorado:
Denver | City and County of Denver (15-08-0320P) | The Honorable Michael B. Hancock, Mayor, City and County of Denver, 1437 Bannock Street, Suite 350, Denver, CO 80202 | Department of Public Works, 201 West Colfax Avenue, Denver, CO 80202 | http://www.msc.fema.gov/lomc | Jun. 19, 2015 | 080046
Denver | City and County of Denver (15-08-0321P) | The Honorable Michael B. Hancock, Mayor, City and County of Denver, 1437 Bannock Street, Suite 350, Denver, CO 80202 | Department of Public Works, 201 West Colfax Avenue, Denver, CO 80202 | http://www.msc.fema.gov/lomc | Jun. 19, 2015 | 080046
Douglas | Unincorporated areas of Douglas County (14-08-0892P) | The Honorable Jill Repella, Chair, Douglas County Board of Commissioners, 100 3rd Street, Castle Rock, CO 80104 | Douglas County Public, Works Department, Engineering Division, 100 3rd Street, Castle Rock, CO 80104 | http://www.msc.fema.gov/lomc | Jun. 12, 2015 | 080049
Florida:
Alachua | Unincorporated areas of Alachua County (15-04-0356P) | The Honorable Lee Pinkoson, Chairman, Alachua County Board of Commissioners, P.O. Box 5547, Gainesville, FL 32627 | Alachua County Public Works Department, 5620 Northwest 120th Lane, Gainesville, FL 32653 | http://www.msc.fema.gov/lomc | Jul. 3, 2015 | 120001
Charlotte | Unincorporated areas of Charlotte County (15-04-1137P) | The Honorable Bill Truex, Chairman, Charlotte County Board of Commissioners, 18500 Murdock Circle, Port Charlotte, FL 33948 | Charlotte County Community Development Department, 18500 Murdock Circle, Port Charlotte, FL 33948 | http://www.msc.fema.gov/lomc | Jun. 19, 2015 | 120061
Collier | City of Marco Island (15-04-1069P) | The Honorable Larry Sacher, Chairman, City of Marco Island Council, 50 Bald Eagle Drive, Marco Island, FL 34145 | City Hall, 50 Bald Eagle Drive, Marco Island, FL 34145 | http://www.msc.fema.gov/lomc | Jun. 19, 2015 | 120426
Collier | Unincorporated areas of Collier County (14-04-A504P) | The Honorable Tom Henning, Chairman, Collier County Board of Commissioners, 3299 Tamiami Trail East, Suite 303, Naples, FL 34112 | Collier County Administrative Building, 3301 East Tamiami Trail, Building F, 1st Floor, Naples, FL 34112 | http://www.msc.fema.gov/lomc | May 12, 2015 | 120067
Marion | City of Ocala (14-04-6358P) | The Honorable Kent Guinn, Mayor, City of Ocala, 110 Southeast Watula Avenue, Ocala, FL 34471 | Engineering Department, 405 Southeast Osceola Avenue, Ocala, FL 34478 | http://www.msc.fema.gov/lomc | Jun. 25, 2015 | 120330
Monroe | City of Key West (14-04-A505P) | The Honorable Craig Cates, Mayor, City of Key West, 3126 Flagler Avenue, Key West, FL 33040 | Planning Department, 605A Simonton Street, Key West, FL 33040 | http://www.msc.fema.gov/lomc | Jun. 5, 2015 | 120168
Pinellas | City of Clearwater (14-04-A506P) | The Honorable George N. Cretekos, Mayor, City of Clearwater, P.O. Box 4748, Clearwater, FL 33758 | Public Works Department, 100 South Myrtle Avenue, Suite 220, Clearwater, FL 33758 | http://www.msc.fema.gov/lomc | Jun. 25, 2015 | 125096
Seminole | City of Longwood (15-04-0949P) | The Honorable John Maingot, Mayor, City of Longwood, 175 West Warren Avenue, Longwood, FL 32750 | City Hall, 175 West Warren Avenue, Longwood, FL 32750 | http://www.msc.fema.gov/lomc | Jun. 19, 2015 | 120292
Georgia: Columbia | Unincorporated areas of Columbia County (15-04-0305P) | The Honorable Ron Cross, Chairman, Columbia County Board of Commissioners, P.O. Box 498, Evans, GA 30809 | Columbia County Planning Services Division, 603 Ronald Reagan Drive, Building B, Evans, GA 30809 | http://www.msc.fema.gov/lomc | Jun. 19, 2015 | 130059
Kentucky:
Kenton | City of Covington (15-04-2329P) | The Honorable Sherry Carran, Mayor, City of Covington, 20 West Pike Street, Covington, KY 41011 | City Hall, 20 West Pike Street, Covington, KY 41011 | http://www.msc.fema.gov/lomc | Jun. 19, 2015 | 210129
Kenton | City of Fort Wright (15-04-2329P) | The Honorable Joseph Nienaber, Jr., Mayor, City of Fort Wright, 409 Kyles Lane, Fort Wright, KY 41011 | City Hall, 409 Kyles Lane, Fort Wright, KY 41011 | http://www.msc.fema.gov/lomc | Jun. 19, 2015 | 210249
New York: Suffolk | Town of Brookhaven (15-02-0307P) | The Honorable Edward P. Romaine, Town of Brookhaven Supervisor, 1 Independence Hill, Farmingville, NY 11738 | Town Hall, 1 Independence Hill, Farmingville, NY 11738 | http://www.msc.fema.gov/lomc | Jul. 16, 2015 | 365334
North Carolina:
Columbus | Unincorporated areas of Columbus County (14-04-6649P) | The Honorable Trent Burroughs, Chairman, Columbus County Board of Commissioners, 111 Washington Street, Whiteville, NC 28472 | Columbus County Planning Department, 111 Washington Street, Whiteville, NC 28472 | http://www.msc.fema.gov/lomc | May 5, 2015 | 370305
Guilford | City of Greensboro (14-04-9100P) | The Honorable Nancy Vaughan, Mayor, City of Greensboro, P.O. Box 3136, Greensboro, NC 27402 | Central Library, 219 North Church Street, Greensboro, NC 27401 | http://www.msc.fema.gov/lomc | Jun. 26, 2015 | 375351
Union | Town of Weddington (14-04-7777P) | The Honorable Bill Deter, Mayor, Town of Weddington, 1924 Weddington Road, Weddington, NC 28104 | Planning Department, 1924 Weddington Road, Weddington, NC 28104 | http://www.msc.fema.gov/lomc | Jun. 22, 2015 | 370518
Union | Unincorporated areas of Union County (14-04-7777P) | The Honorable Richard Helms, Chairman, Union County Board of Commissioners, 500 North Main Street, Room 921, Monroe, NC 28112 | Union County Planning Department, 500 North Main Street, Monroe, NC 28112 | http://www.msc.fema.gov/lomc | Jun. 22, 2015 | 370234
Wake | City of Raleigh (14-04-8341P) | The Honorable Nancy McFarlane, Mayor, City of Raleigh, P.O. Box 590, Raleigh, NC 27602 | Public Works Department, 222 West Hargett Street, Raleigh, NC 27601 | http://www.msc.fema.gov/lomc | Jun. 26, 2015 | 370243
Wake | Unincorporated areas of Wake County (14-04-8341P) | The Honorable James West, Chairman, Wake County Board of Commissioners, P.O. Box 550, Raleigh, NC 27602 | Wake County Environmental Services Department, 336 Fayetteville Street, Raleigh, NC 27602 | http://www.msc.fema.gov/lomc | Jun. 26, 2015 | 370368
South Carolina: Charleston | City of Charleston (15-04-0605P) | The Honorable Joseph P. Riley, Jr., Mayor, City of Charleston, P.O. Box 652, Charleston, SC 29402 | Engineering Department, 75 Calhoun Street Division 301, Charleston, SC 29402 | http://www.msc.fema.gov/lomc | Jun. 19, 2015 | 455412
Utah:
Davis | City of Farmington (15-08-0034P) | The Honorable Jim Talbot, Mayor, City of Farmington, 160 South Main, Farmington, UT 84025 | GIS Department, 1600 South Main, Farmington, UT 84025 | http://www.msc.fema.gov/lomc | Jun. 26, 2015 | 490044
Davis | City of Fruit Heights (14-08-1211P) | The Honorable Don Carroll, Mayor, City of Fruit Heights, 910 South Mountain Road, Fruit Heights, UT 84037 | City Hall, 910 South Mountain Road, Fruit Heights, UT 84307 | http://www.msc.fema.gov/lomc | Jun. 5, 2015 | 490045
Davis | City of Kaysville (14-08-1178P) | The Honorable Steve A. Hiatt, Mayor, City of Kaysville, 23 East Center Street, Kaysville, UT 84037 | City Hall, 23 East Center Street, Kaysville, UT 84037 | http://www.msc.fema.gov/lomc | Jun. 5, 2015 | 490046
Davis | City of Kaysville (14-08-1211P) | The Honorable Steve A. Hiatt, Mayor, City of Kaysville, 23 East Center Street, Kaysville, UT 84037 | City Hall, 23 East Center Street, Kaysville, UT 84037 | http://www.msc.fema.gov/lomc | Jun. 5, 2015 | 490046
Washington | Town of Springdale (14-08-1247P) | The Honorable Stan Smith, Mayor, Town of Springdale, 118 Lion Boulevard, Springdale, UT 84767 | Planning and Zoning Department, 118 Lion Boulevard, Springdale, UT 84767 | http://www.msc.fema.gov/lomc | May 22, 2015 | 490179

[FR Doc. C1-2015-10535 Filed 7-6-15; 8:45 am]

BILLING CODE 1505-01D